DEPARTMENT OF JUSTICE

Notice of Lodging of Consent Decree Under the Clean Air Act

Under 28 CFR 50.7, notice is hereby given that on January 17, 2003, a proposed Consent Decree in United States v. Arizona Department of Transportation, et al., Civil Action Number 03-CV-128, was lodged with the United States District Court for the District of Arizona.

In this action the United States sought injunctive relief and civil penalties under Sections 112 and 113 of the Clean Air Act, 42 U.S.C. 7412 and 7413, and the National Emission Standards for Hazardous Air Pollutants for Asbestos (“NESHAP”), 40 CFR part 61, subpart M, against the Arizona Department of Transportation, Cornerstone Properties, Inc., Mel Price Associates, Breinholt Contracting Co., Inc., and Granite Construction Co. The claims arise out of demolition activities in 1998 at four facilities located in Mohave County, Arizona. The proposed Decree provides that the defendants will pay a $115,000 penalty, comply with the Clean Air Act and the asbestos NESHAP in all future demolition and/or renovation operations, amend their standard contracts to provide for and require compliance with the NESHAP, and provide training.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Arizona Department of Transportation, et al., DOJ Ref. # 90-5-2-1-06520.

The Consent Decree may be examined at the Office of the United States Attorney, District of Arizona, U.S. Courthouse, 230 N. First Ave., Phoenix, AZ 85025, and at U.S. EPA Region IX, Office of Regional Counsel, 75 Hawthorne Street, San Francisco, CA 94105. A copy of the Consent Decree may also be obtained by mail from the Consent Decree Library, P.O. Box 7611, U.S. Department of Justice, Washington, DC 20044-7611. In requesting a copy from the Consent Decree Library, please enclose a check in the amount of $5.25 (25 cents per page reproduction cost) payable to the U.S. Treasury.

Ellen Mahan,
Assistant Chief, Environmental Enforcement Section, Environment and Natural Resources Division.

[FR Doc. 03-3521 Filed 2-12-03; 8:45 am]

BILLING CODE 4410-15-M